SECURITIES AND EXCHANGE COMMISSION

[Release No. 34-104876; File No. SR-TXSE-2026-001]

Self-Regulatory Organizations; Texas Stock Exchange LLC; Notice of Filing and Immediate Effectiveness of a Proposed Rule Change To Add an Offset Peg Order

February 20, 2026.

Pursuant to Section 19(b)(1) of the Securities Exchange Act of 1934 (the “Act”),¹ and Rule 19b-4 thereunder,² notice is hereby given that on February 17, 2026, Texas Stock Exchange LLC (the “Exchange” or “TXSE”) filed with the Securities and Exchange Commission (“Commission”) the proposed rule change as described in Items I and II below, which Items have been prepared by the Exchange. The Exchange filed the proposal as a “non-controversial proposed rule change pursuant to Section 19(b)(3)(A)(iii) of the Act ³ and Rule 19b-4(f)(6) thereunder.⁴ The Commission is publishing this notice to solicit comments on the proposed rule change from interested persons.

¹ 15 U.S.C. 78s(b)(1).

² 17 CFR 240.19b-4.

³ 15 U.S.C. 78s(b)(3)(A)(iii).

⁴ 17 CFR 240.19b-4(f)(6).

I. Self-Regulatory Organization's Statement of the Terms of Substance of the Proposed Rule Change

The Exchange filed a proposal to add an Offset Peg order that operates similarly to offset peg orders on other exchanges, as further described below.

The text of the proposed rule change is provided in Exhibit 5. The text of the proposed rule change is available on the Commission's website (https://www.sec.gov/rules/sro.shtml) at the Exchange's website (https://txse.com/rule-filings), and at the principal office of the Exchange.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in Sections A, B, and C below, of the most significant parts of such statements.

A. Self-Regulatory Organization's Statement of the Purpose of, and Statutory Basis for, the Proposed Rule Change

1. Purpose

The Exchange proposes to amend Rule 11.006(h) to add an Offset Peg order with similar functionality to comparable pegged orders on other exchanges. In addition, the Exchange is proposing to make certain corresponding changes to TXSE Rules 11.007(c), 11.008(a)(2)(iii), 11.0120H(b)(7)(A)(i), 11.022(a)(8)(A)(i), and 11.023(a)(2) in order to add reference to Offset Peg orders in other places in the rulebook where other Pegged Order ⁵ types are mentioned, to make a copycat change to the definition of Pegged Order in Rule 11.006(h), and to make a cleanup change to add a reference to Primary Peg Orders in Rule 11.023(a)(2).

⁵ As provided in Rule 11.006(h), the term “Pegged Order” means an order that automatically re-prices in response to changes in the NBBO, as further described in TXSE Rule 11.007(c). A User entering a Pegged Order can specify that the order's price will peg to the NBB or NBO, the midpoint of the NBBO or to the opposing bid or offer, as described below.

Overview

Currently, the Exchange offers three types of Pegged Orders: Primary Peg,⁶ Midpoint Peg,⁷ and Market Peg,⁸ each of which are non-displayed orders that upon entry into the System ⁹ and while resting on the TXSE Book,¹⁰ are pegged to a reference price based on the NBBO ¹¹ and the order is automatically managed by the System in response to changes in the NBBO.

⁶ As provided in Rule 11.006(h)(1), the term “Primary Peg” means an order with instructions to peg to the NBB, for a buy order, or the NBO, for a sell order. A User submitting a Pegged Order with a Primary Peg instruction may, but is not required to, include a limit price on such order.

⁷ As provided in Rule 11.006(h)(2), the term “Midpoint Peg” means a Pegged Order with an instruction to peg to the midpoint of the NBBO. A User submitting a Pegged Order with a Midpoint Peg instruction may, but is not required to, include a limit price on such order. A Pegged Order with a Midpoint Peg instruction and a limit price that is more aggressive than the midpoint of the NBBO will execute at the midpoint of the NBBO or better subject to its limit price. A Pegged Order with a Midpoint Peg instruction may execute at its limit price or better when its limit price is less aggressive than the midpoint of the NBBO. A Pegged Order with a Midpoint Peg instruction will be ranked at the midpoint of the NBBO where its limit price is equal to or more aggressive than the midpoint of the NBBO. In such case, pursuant to TXSE Rule 11.008, all Pegged Orders that are ranked at the midpoint of the NBBO will retain their priority as compared to each other based upon the time such orders were initially received by the System. A Pegged Order with a Midpoint Peg instruction will be ranked at its limit price where its limit price is less aggressive than the midpoint of the NBBO.

⁸ As provided in Rule 11.006(h)(3), the term “Market Peg” means an order with instructions to peg to the NBO, for a buy order, or the NBB, for a sell order. A User submitting a Pegged Order with a Market Peg instruction may, but is not required to, include a limit price on such order.

⁹ As provided in Rule 1.005(ff), the term “System” means the electronic communications and trading facility designated by the Board through which securities orders of Users are consolidated for ranking and execution.

¹⁰ As provided in Rule 1.005(ii), the term “TXSE Book” means the System's electronic file of orders.

¹¹ As provided in Rule 1.005(r), the term “NBBO” means the national best bid or offer.

The Exchange is proposing to add a fourth type of Pegged Order, an Offset Peg, which is a non-displayed Pegged Order with instructions to peg to the less aggressive of: (i) the primary quote (i.e. the NBB ¹² for buy orders and NBO ¹³ for sell orders) plus or minus (plus for buy orders and minus for sell orders) an offset amount; ¹⁴ and (ii) the order's limit price. While resting on the TXSE Book an Offset Peg Order to buy (sell) order is automatically adjusted by the System in response to changes in the NBB (NBO) plus (minus) the offset amount up (down) to the order's limit price. Based on informal feedback from Members, the Exchange believes that Offset Peg orders will provide additional flexibility to the Exchange's Pegged Order functionality and would be useful to market participants seeking to trade within the NBBO.

¹² As provided in Rule 1.005(r), the term “NBB” means the national best bid.

¹³ As provided in Rule 1.005(r), the term “NBO” means the national best offer.

¹⁴ The Exchange notes that the offset amount will be entered by Users in basis points at or within the NBBO. As provided in proposed Rule 11.006(h)(4), if the offset amount would result in the price of an Offset Peg order being in an increment smaller than specified in Rule 11.006(g), the price of a buy order will be rounded down and the price of a sell order will be rounded up to the nearest permissible increment. If no offset amount is specified, the System will consider the offset amount to be zero.

Offset Peg Order

The Exchange proposes to add new Rule 11.006(h)(4) to add the Offset Peg order. As proposed, an Offset Peg order would be a Pegged Order with instructions to peg to the less aggressive of the primary quote (i.e., the NBB for buy orders and NBO for sell orders) plus or minus (plus for buy orders and minus for sell orders) an offset amount or the order's limit price upon entry and when posting to the TXSE Book. While resting on the Order Book, (i) a buy order is automatically adjusted by the System in response to the changes in the NBB plus the offset amount up to the order's limit price; and (ii) a sell order is automatically adjusted by the System in response to changes in the NBO minus the offset amount down to the order's limit price. If the offset amount would result in the price of an Offset Peg order being in an increment smaller than specified in Rule 11.006(g), the price of a buy order will be rounded down and the price of a sell order will be rounded up to the nearest permissible increment.¹⁵ If no offset amount is specified, the System will consider the offset amount to be zero. A User ¹⁶ submitting a Pegged Order with an Offset Peg instruction is required to include a limit price on such order. An Offset Peg order entered with an offset equal to a Primary Peg, a Midpoint Peg, or a Market Peg will be treated as a Primary Peg, a Midpoint Peg, or a Market Peg, respectively.

¹⁵ Like Midpoint Peg orders, Offset Peg orders may result in executions at a sub-penny midpoint price. Pursuant to Rule 612 under Regulation NMS execution at a sub-penny midpoint price is permissible so long as the execution did not result from an impermissible sub-penny order or quotation. See Securities Exchange Act Release No. 51808 (June 9, 2005), 70 FR 37496, 37556 (June 29, 2005) (File No. S7-10-04) (“NMS Adopting Release”).

¹⁶ As provided in Rule 1.005(jj), the term “User” means any Member or Sponsored Participant who is authorized to obtain access to the System pursuant to TXSE Rule 11.003.

The Exchange is also proposing to amend Rule 11.007(c) to provide that for Offset Peg orders, a User may indicate to peg an order to a reference price plus or minus an offset amount (the NBB plus the offset amount up to the order's limit price for buy orders, the NBO minus the offset amount down to the order's limit price for sell orders). Like other Pegged Orders, Offset Peg orders will be subject to Rules 11.007(c)(1)-(7), which provide: (1) a Pegged Order may contain the following TIF instructions: Day,¹⁷ SYS,¹⁸ IOC,¹⁹ RHO ²⁰ or GTT; ²¹ (2) Pegged Orders may be entered as an Odd Lot,²² Round Lot ²³ or Mixed Lot; ²⁴ (3) Pegged Orders are not eligible to include a Displayed ²⁵ instruction; (4) Pegged Orders may be executed during the Pre-Market Session,²⁶ the Market Session ²⁷ and the Post-Market Session; ²⁸ (5) a Pegged Order may include a Book Only ²⁹ or Post Only ³⁰ instruction; (6) to the extent an incoming Pegged Order would be a Crossing Quotation ³¹ if displayed at the price at which it would be ranked in the TXSE Book, such order will execute against interest in the TXSE Book at prices up to and including the Locking Price ³² and will then be cancelled by the System. A Pegged Order resting on the TXSE Book is not eligible for execution when a Locking Quotation ³³ or Crossing Quotation exists. In such cases, a Pegged Order would rest on the TXSE Book and would not be eligible for execution in the System until a Locking Quotation or Crossing Quotation no longer exists; and (7) a Pegged Order received by the System when the NBBO is not available will be rejected or cancelled back to the entering User. A Pegged Order resting on the TXSE Book will be cancelled back to the User when the NBB or NBO that the order is pegged to is no longer available.

¹⁷ As provided in Rule 11.006(o)(2), the term “Day” means an instruction the User may attach to an order stating that an order to buy or sell is designated for execution starting with the Pre-Market Session and, if not executed, expires at the end of Regular Trading Hours. Any Day order entered into the System before the opening for business on the Exchange as determined pursuant to TXSE Rule 11.001 or after the closing of Regular Trading Hours will be rejected.

¹⁸ As provided in Rule 11.006(o)(6), the term “SYS” means an instruction a User may attach to an order stating that an order to buy or sell is designated for execution starting with the Pre-Market Session and, if not executed, expires at the end of the Post-Market Session. Any order with a TIF instruction of SYS entered into the System before the opening for business or after the closing for business on the Exchange as determined pursuant to TXSE Rule 11.001 will be rejected.

¹⁹ As provided in Rule 11.006(o)(1), the term “IOC” means an instruction the User may attach to an order stating the order is to be executed in whole or in part as soon as such order is received. The portion not executed immediately on the Exchange is treated as cancelled and is not posted to the TXSE Book.

²⁰ As provided in Rule 11.006(o)(5), the term “RHO” means an instruction a User may attach to an order stating that an order to buy or sell is designated for execution only during Regular Trading Hours which includes the Opening Auction, the Closing Auction and IPO/Halt Auctions for TXSE-Listed securities and the Opening Process for non-TXSE-Listed securities (as such terms are defined in TXSE Rules 11.022 and 11.023) and, if not executed, expires at the end of Regular Trading Hours. Any order with a TIF instruction of RHO entered into the System after the closing of Regular Trading Hours will be rejected. Any portion of a market RHO order will be cancelled immediately following any auction in which it is not executed.

²¹ As provided in Rule 11.006(o)(4), the term “GTT” means an instruction the User may attach to an order specifying the time of day at which the order expires, which is designated for execution starting with the Pre-Market Session. Any unexecuted portion of an order with a TIF instruction of GTT will be cancelled at the expiration of the User's specified time, which can be no later than the close of the Post-Market Session.

²² As provided in Rule 11.006(q)(2), the term “Odd Lot” means any amount less than a Round Lot. Orders of Odd Lot size are only eligible to be Protected Quotations if aggregated to form a Round Lot.

²³ As provided in Rule 11.006(q)(1), the term “Round Lot” means One hundred (100) shares or any multiple thereof shall constitute a Round Lot, unless an alternative number of shares is established as a Round Lot by the listing exchange for the security. Orders that are a Round Lot are eligible to be Protected Quotations.

²⁴ As provided in Rule 11.006(q)(3), the term “Mixed Lot” means Any amount greater than a Round Lot that is not an integer multiple of a Round Lot shall constitute a Mixed Lot. Odd Lot portions of orders of Mixed Lot size are only eligible to be Protected Quotations if aggregated to form a Round Lot.

²⁵ As provided in Rule 11.006(c)(1), the term “Displayed” means an instruction the User may attach to an order stating that the order is to be displayed by the System on the TXSE Book.

²⁶ As provided in Rule 1.005(v), the term “Pre-Market Session” means the time between 8:00 a.m. and 9:30 a.m. Eastern Time.

²⁷ As provided in Rule 1.005(p), the term “Market Session” means the time between 9:30 a.m. and 4:00 p.m. Eastern Time.

²⁸ As provided in Rule 1.005(u), the term “Post-Market Session” means the time between 4:00 p.m. and 5:00 p.m. Eastern Time.

²⁹ As provided in Rule 11.006(l)(1), the term “Book Only” means an order instruction stating that an order will be matched against an order on the TXSE Book or posted to the TXSE Book.

³⁰ As provided in Rule 11.006(l)(2), the term “Post Only” means an instruction that may be attached to an order that is to be ranked and executed on the Exchange pursuant to TXSE Rule 11.008 and TXSE Rule 11.009(a)(4) or cancelled, as appropriate, without routing away to another trading center except that the order will not remove liquidity from the TXSE Book, except as described below. An order with a Post Only instruction and a Display-Price Sliding instruction will remove contra-side liquidity from the TXSE Book if the order is an order to buy or sell a security priced below $1.00 or if the value of such execution when removing liquidity equals or exceeds the value of such execution if the order instead posted to the TXSE Book and subsequently provided liquidity, including the applicable fees charged or rebates provided. To determine at the time of a potential execution whether the value of such execution when removing liquidity equals or exceeds the value of such execution if the order instead posted to the TXSE Book and subsequently provided liquidity, the Exchange will use the highest possible rebate paid and highest possible fee charged for such executions on the Exchange.

³¹ As provided in Rule 11.006(b), the term “Crossing Quotation” means the display of a bid (offer) for an NMS stock at a price that is higher (lower) than the price of an offer (bid) for such NMS stock previously disseminated pursuant to an effective national market system plan in violation of Rule 610(e) of Regulation NMS. Pursuant to TXSE Rule 13.004(a), the Exchange will use certain data feeds for the handling and execution of orders.

³² As provided in Rule 11.006(d), the term “Locking Price” means the price at which an order to buy (sell), that if displayed by the System on the TXSE Book, upon entry into the System would be a Locking Quotation. Pursuant to TXSE Rule 13.004(a), the Exchange will use certain data feeds for the handling and execution of orders.

³³ As provided in Rule 11.006(e), the term “Locking Quotation” means the display of a bid for an NMS stock at a price that equals the price of an offer for such NMS stock previously disseminated pursuant to an effective national market system plan, or the display of an offer for an NMS stock at a price that equals the price of a bid for such NMS stock previously disseminated pursuant to an effective national market system plan in violation of Rule 610(e) of Regulation NMS.

The Exchange notes that the proposed Offset Peg order is very similar to functionality either currently or previously offered by several exchanges. Specifically, the Offset Peg order is similar to order types offered by Nasdaq Stock Market LLC (“Nasdaq”), NYSE Arca, Inc. (“Arca”), and Cboe BZX Exchange, Inc. (“BZX”),³⁴ as well as to order types previously offered by Investors Exchange, Inc. (“IEX”).³⁵

³⁴ See Nasdaq Rule 4703(d) (Primary Pegging with an Offset Amount), Arca Rule 7.31-E(h)(1) (Market Pegged Order with an offset amount), and BZX Rule 11.9(c)(8)(A) (Primary Pegged Orders with designated Primary Offset Amounts).

³⁵ See Securities Exchange Act Release No. 90197 (October 15, 2020), 85 FR 67074 (October 21, 2020) (File No. SR-IEX-2020-16) (Notice of Filing and Immediate Effectiveness of Proposed Rule Change to Add an Offset Peg Order Type).

Corresponding Changes

The Exchange is also proposing to amend Rules 11.06(h) (Pegged Orders), 11.008(a)(2)(A)(iii) (Priority of Orders), 11.020(H)(b)(7)(A)(i) (Trading Halts), 11.022(a)(8)(A)(i) (Auctions), and 11.023(a)(2) (Opening Process for Non-TXSE-Listed Securities) to add reference to Offset Peg orders where other Pegged Order types are mentioned, specifically as it relates to: (i) including a reference to an offset amount in the definition of Pegged Orders; (ii) Offset Peg orders being subject to the same time priority as other orders with a peg instruction, which are all ranked in priority based upon the time that such orders were initially received by the System; ³⁶ (iii) cancelling any unexecuted portion of a Pegged Order during a Regulatory Halt; ³⁷ (iv) rejecting Pegged Orders entered into an IPO auction; and (v) allowing Pegged Orders to participate in the Opening Process,³⁸ respectively.

³⁶ Because all Pegged Orders are kept in time priority based on when they were initially received by the System, the System does not modify Pegged Orders or generate new timestamps or order update messages for Pegged Orders based on movements of the NBBO.

³⁷ As provided in Rule 11.020H(a)(15), the term “Regulatory Halt” has the same meaning as in the CTA Plan.

³⁸ See Rule 11.023.

Copycat/Cleanup Changes

Finally, the Exchange is proposing to amend the description of “Pegged Order” under Rule 11.006(h) to describe a Pegged Order as “An order that is automatically adjusted by the System in response to changes in the NBBO,” instead of “An order that automatically re-prices in response to changes in the NBBO.” The Exchange believes that this language better reflects system functionality and is generally consistent with the way that other exchanges describe pegged orders.³⁹

³⁹ See, e.g. BZX Rule 11.9(c)(8).

The Exchange is also proposing to add reference to Primary Peg Orders in Rule 11.023(a)(2). The reference was unintentionally excluded and adding it makes clear that Primary Peg Orders will be treated like all Pegged Orders in the Opening Process for Non-TXSE-Listed Securities.

2. Statutory Basis

The Exchange believes that the proposed rule change is consistent with Section 6(b) of the Act,⁴⁰ in general, and furthers the objectives of Section 6(b)(5) of the Act,⁴¹ in particular, in that it is designed to promote just and equitable principles of trade, to remove impediments to and perfect the mechanism of a free and open market and a national market system, and, in general, to protect investors and the public interest. Specifically, the Exchange believes that the proposed rule change is consistent with the protection of investors and the public interest because it is designed to increase competition among execution venues by providing an additional Pegged Order type that market participants can use to trade at an offset to the primary quote, as described above, and thereby enable the Exchange to better compete with order types on other national securities exchanges that offer similar features to market participants.

⁴⁰ 15 U.S.C. 78f(b).

⁴¹ 15 U.S.C. 78f(b)(5).

Further, the Exchange believes that the proposal is consistent with the protection of investors and the public interest in that the Offset Peg order type would provide additional flexibility to market participants in their use of Pegged Orders. As described above, the Exchange already offers three types of Pegged Orders—Primary Peg, Midpoint Peg, and Market Peg. As proposed, the Offset Peg order would function in a similar manner but provide flexibility to market participants to specify an offset to the primary quote. Such functionality could be used for a number of purposes, including providing Users with the ability to post orders at more precise permissible price levels than are available with the Exchange's current Pegged Order types. Although broker-dealers could implement similar functionality on their own by consuming market data feeds and sending limit orders at prices that would accomplish the same outcome, implementing this functionality through an exchange order type will be much more efficient (fewer orders entered and cancelled every time the NBBO moves) and ensures that it is widely available to market participants on a fair and non-discriminatory basis. At the same time, the Offset Peg order type would be offered on a purely voluntary basis, and with flexibility for Users to choose the amount of any offset, thereby providing flexibility to continue using current Pegged Order types without a User specified offset and to choose different offsets based on a User's specific needs. The Exchange does not believe that providing flexibility to Users to select the amount of any offset raises any significant or novel concerns, since similar offset functionality is already available on other national securities exchanges, as discussed above.

In addition, the Exchange believes that it is consistent with the Act to round the price of a buy order down and a sell order up to the nearest permissible increment if the offset amount would result in the price of an Offset Peg order being in an increment smaller than specified in Rule 11.006(g). Rounding assures that the Exchange is compliant with Regulation NMS Rule 612 ⁴² and TXSE Rule 11.006(g). Moreover, this approach is generally consistent with the way other national securities exchanges handle pegged orders.⁴³

⁴² See 17 CFR 242.612 and FAQs 8, 1, and 2 in Division of Market Regulation: Responses to Frequently Asked Questions Concerning Rule 612 (Minimum Pricing Increment) of Regulation NMS, available at https://www.sec.gov/divisions/marketreg/subpenny612faq.htm which provides that although exchanges (and broker-dealers) may not accept and round orders in NMS stocks explicitly priced in sub-penny increments (FAQs 8 and 1), they may accept such orders when the order is not “explicitly” priced in an impermissible sub-penny increment, meaning that a calculation must be performed to obtain the price of the order, in which case the exchange or broker-dealer may round the price of the stock to determine the “actual explicit price for the order.” (FAQ 2). The Exchange believes that Offset Peg orders would not be explicitly priced in sub-penny increments even if the offset amount specified is in a sub-penny increment because the Exchange would need to perform a calculation to obtain the price of the order by applying the offset amount to the NBB or NBO as applicable. Accordingly, the Exchange believes that rounding as proposed is consistent with Rule 612 under Regulation NMS and relevant FAQs, which provide that exchanges (and broker-dealers) may not accept and round orders in NMS stocks explicitly priced in sub-penny increments (FAQs 8 and 1), except for when the order is not “explicitly” priced in an impermissible sub-penny increment, in which case the exchange may round the price of the stock to determine the “actual explicit price for the order,” (FAQ 2).

⁴³ See, e.g. Cboe US Equities FIX Specification (Version 2.9.51) describing treatment of Tag 211 regarding “Pegged Difference” available at https://cdn.cboe.com/resources/membership/Cboe_US_Equities_FIX_Specification.pdf.

The Exchange also believes that the corresponding changes to align Offset Peg treatment with other Pegged Orders as it relates to the definition of Pegged Orders, priority, treatment in a regulatory halt, treatment in an IPO auction, and participation in the Opening Process, are consistent with the Act in that they are consistent with the way that the Exchange treats other Pegged Orders already available on the Exchange and are generally consistent with how comparable order types are treated on other national securities exchanges.

The Exchange also believes that the copycat change to its description of Pegged Orders is consistent with the Act because the language better reflects system functionality and is generally consistent with the way that other exchanges describe pegged orders.⁴⁴

⁴⁴ See, e.g., BZX Rule 11.9(c)(8).

Finally, the Exchange believes that adding reference to Primary Peg Orders in Rule 11.023(a)(2). The reference was unintentionally excluded and adding it makes clear that Primary Peg Orders will be treated like all Pegged Orders in the Opening Process for Non-TXSE-Listed Securities.

For these reasons, the Exchange believes that the proposed changes do not raise any new or novel material issues that have not already been considered by the Commission in connection with existing order types offered by the Exchange and other national securities exchanges.

(B) Self-Regulatory Organization's Statement on Burden on Competition

The Exchange does not believe that the proposal will impose any burden on competition that is not necessary or appropriate in furtherance of the purposes of the Act. To the contrary, the proposal is a competitive response to similar order types available on other exchanges.

The Exchange does not believe that the proposed rule change will impose any burden on intermarket competition that is not necessary or appropriate in furtherance of the purposes of the Act. Competing exchanges have and can continue to adopt similar order types, as noted above.

The Exchange also does not believe that the proposed rule change will impose any burden on intramarket competition that is not necessary or appropriate in furtherance of the purposes of the Act. All Members would be eligible to use an Offset Peg order on the same terms.

(C) Self-Regulatory Organization's Statement on Comments on the Proposed Rule Change Received From Members, Participants or Others

The Exchange has neither solicited nor received written comments on the proposed rule change.

III. Date of Effectiveness of the Proposed Rule Change and Timing for Commission Action

Because the foregoing proposed rule change does not: (i) significantly affect the protection of investors or the public interest; (ii) impose any significant burden on competition; and (iii) become operative for 30 days from the date on which it was filed, or such shorter time as the Commission may designate, it has become effective pursuant to Section 19(b)(3)(A)(iii) of the Act ⁴⁵ and Rule 19b-4(f)(6) ⁴⁶ thereunder.

⁴⁵ 15 U.S.C. 78s(b)(3)(A)(iii).

⁴⁶ 17 CFR 240.19b-4(f)(6). In addition, Rule 19b-4(f)(6) requires a self-regulatory organization to give the Commission written notice of its intent to file the proposed rule change at least five business days prior to the date of filing of the proposed rule change, or such shorter time as designated by the Commission. The Exchange has satisfied this requirement.

At any time within 60 days of the filing of the proposed rule change, the Commission summarily may temporarily suspend such rule change if it appears to the Commission that such action is necessary or appropriate in the public interest, for the protection of investors, or otherwise in furtherance of the purposes of the Act. If the Commission takes such action, the Commission will institute proceedings to determine whether the proposed rule change should be approved or disapproved.

IV. Solicitation of Comments

Interested persons are invited to submit written data, views and arguments concerning the foregoing, including whether the proposal is consistent with the Act. Comments may be submitted by any of the following methods:

Electronic Comments

• Use the Commission's internet comment form (http://www.sec.gov/rules/sro.shtml); or

• Send an email to rule-comments@sec.gov. Please include File No. SR-TXSE-2026-001 on the subject line.

Paper Comments

• Send paper comments in triplicate to Secretary, Securities and Exchange Commission, 100 F Street NE, Washington, DC 20549-1090.

All submissions should refer to File No. SR-TXSE-2026-001. This file number should be included on the subject line if email is used. To help the Commission process and review your comments more efficiently, please use only one method. The Commission will post all comments on the Commission's internet website (http://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-TXSE-2026-001 and should be submitted on or before March 18, 2026.

For the Commission, by the Division of Trading and Markets, pursuant to delegated authority.⁴⁷
⁴⁷ 17 CFR 200.30-3(a)(12).
Sherry R. Haywood,
Assistant Secretary.

[FR Doc. 2026-03703 Filed 2-24-26; 8:45 am]

BILLING CODE 8011-01-P